SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before June 20, 2005.

ADDRESSES: Send all comments regarding whether this information collection is necessary for the proper performance of the function of the agency, whether the burden estimates are accurate, and if there are ways to minimize the estimated burden and enhance the quality of the collection, to Carol Fendler, Systems Accountant, Office of Investment, Small Business Administration, 409 3rd Street SW., Suite 6300, Wash., DC 20416.

FOR FURTHER INFORMATION CONTACT: Carol Fendler, Systems Accountant, 202-205-7559 carol.fendler@sba.gov Curtis B. Rich, Management Analyst, 202-205-7030 curtis.rich@sba.sba.

SUPPLEMENTARY INFORMATION: Title: “Disclosure Statement, Leveraged Licenses and Disclosure Statement Non-Leveraged Licensees”.

Description of Respondents: Small Business Investment Companies.

Form No's: 856 and 856A.

Annual Responses: 400.

Annual Burden: 187.

ADDRESSES: Send all comments regarding whether this information collection is necessary for the proper performance of the function of the agency, whether the burden estimates are accurate, and if there are ways to minimize the estimated burden and enhance the quality of the collection, to Veronica Johnson, Program Analyst, Office of Business Development, Small Business Administration, 409 3rd Street SW., Suite 8800, Wash., DC 20416.

FOR FURTHER INFORMATION CONTACT: Veronica Johnson, Program Analyst, 202-619-0472 veronica.johnson@sba.gov Curtis B. Rich, Management Analyst, 202-205-7030 curtis.rich@sba.sba.

SUPPLEMENTARY INFORMATION: Title: “8(a) Annual Update”.

Description of Respondents: 8(a) Program Participants.

Form No: 1450.

Annual Responses: 6,700.

Annual Burden: 13,400.

Jacqueline White,
Chief, Administrative Information Branch.

[FR Doc. 05-7998 Filed 4-20-05; 8:45 am]

BILLING CODE 8025-01-P